DEPARTMENT OF JUSTICE

[OMB Number 1121-0339]

Agency Information Collection Activities; Proposed eCollection eComments Requested; Extension of a Currently Approved Collection; Comments Requested: Generic Clearance for Cognitive, Pilot and Field Studies for Bureau of Justice Statistics Data Collection Activities

AGENCY: Bureau of Justice Statistics, Department of Justice.

ACTION: 30-Day notice.

SUMMARY: The Department of Justice (DOJ), Office of Justice Programs (OJP), Bureau of Justice Statistics (BJS), intends to request approval from the Office of Management and Budget (OMB) for a generic information collection clearance that will allow BJS to conduct a variety of cognitive, pilot, and field test studies. BJS will submit the request for review and approval in accordance with the Paperwork Reduction Act of 1995.

Over the next three years, BJS anticipates undertaking a variety of new surveys and data collections, as well as reassessing ongoing statistical projects, across a number of areas of criminal justice, including law enforcement, courts, corrections, and victimization. This work will entail developing new survey instruments, redesigning and/or modifying existing surveys, procuring administrative data from state and local government entities, and creating or modifying establishment surveys. BJS will engage in cognitive, pilot, and field test activities to refine instrumentation and data collection methodologies, inform BJS data collection protocols, develop accurate estimates of respondent burden, and minimize respondent burden associated with each new or modified data collection. BJS envisions using a variety of techniques, including (but not limited to): Tests of different types of survey and data collection operations; focus groups; cognitive testing; pilot testing; exploratory interviews; experiments with questionnaire design; and usability testing of electronic data collection instruments.

Following standard Office of Management and Budget (OMB) requirements, BJS will submit a change request to OMB individually for every group of data collection activities undertaken under this generic clearance. BJS will provide OMB with a copy of the individual instruments or questionnaires (if one is used), as well as other materials describing the project.

DATES: Comments are encouraged and will be accepted for 30 days until March 29, 2019.

FOR FURTHER INFORMATION CONTACT: If you have additional comments especially on the estimated public burden or associated response time, suggestions, or need a copy of the proposed information collection instrument with instructions or additional information, please contact Devon Adams, Bureau of Justice Statistics, 810 Seventh Street NW, Washington, DC 20531 (email: Devon.Adams@usdoj.gov; telephone: 202-307-0765).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) The Title of the Form/Collection: Generic Clearance for cognitive, pilot and field studies for Bureau of Justice Statistics data collection activities.

(3) The agency form number, if any, and the applicable component of the Department sponsoring the collection: Form numbers not available for generic clearance. The applicable component within the Department of Justice is the Bureau of Justice Statistics, in the Office of Justice Programs.

(4) Affected public who will be asked or required to respond, as well as a brief abstract: Administrators or staff of state and local agencies or programs in the relevant fields; administrators or staff of non-government agencies or programs in the relevant fields; individuals; policymakers at various levels of government.

(5) An estimate of the total number of respondents and the amount of time estimated for an average respondent to respond: We estimate that approximately 50,000 respondents will be involved in exploratory, field test, pilot, cognitive, and focus group work conducted under this clearance over the requested 3-year clearance period. The average response time per respondent will be specific to each project covered under the clearance. Specific estimates of the number of respondents and the average response time are not known for each pilot study or development project covered under a generic clearance at this time. Project specific estimates will be submitted to OMB separately for each project conducted under this clearance. BJS originally estimated that 30,000 respondents would be involved in the statistical activities covered under this clearance. Upon reviewing additional projects that were identified after the 60-day notice was posted, BJS increased the estimate to 52,000 to account for the additional efforts.

(6) An estimate of the total public burden (in hours) associated with the collection: The total respondent burden for identified and future projects covered under this generic clearance over the 3-year clearance period is approximately 25,000 hours. BJS originally estimated that 20,000 burden hours would be needed, but upon reviewing additional projects that were identified after the 60-day notice was posted, BJS increased the estimate to 25,000 to account for the additional efforts.

If additional information is required contact: Melody Braswell, Department Clearance Officer, United States Department of Justice, Justice Management Division, Policy and Planning Staff, Two Constitution Square, 145 N Street NE, 3E.405A, Washington, DC 20530.

Dated: February 22, 2019.
Melody Braswell,
Department Clearance Officer for PRA, U.S. Department of Justice.

[FR Doc. 2019-03355 Filed 2-26-19; 8:45 am]

BILLING CODE 4410-18-P